DEPARTMENT OF TRANSPORTATION

Surface Transportation Board

[Docket No. FD 35485]

Nittany & Bald Eagle Railroad Company—Temporary Trackage Rights Exemption—Norfolk Southern Railway Company

Norfolk Southern Railway Company (NSR), pursuant to a written trackage rights agreement dated February 25, 2011, has agreed to grant nonexclusive overhead temporary trackage rights to Nittany & Bald Eagle Railroad Company (N&BE) over a portion of NSR's line of railroad between Lock Haven, PA (milepost BR 194.2), and Driftwood, PA (milepost BR 139.2), a distance of 55 miles.¹

¹ A redacted, executed trackage rights agreement between NSR and N&BE was filed with the notice of exemption. The unredacted version was concurrently filed under seal along with a motion for protective order, which will be addressed in a separate decision.

The transaction is scheduled to be consummated on or after May 15, 2011, the effective date of the exemption (30 days after the exemption was filed). The temporary trackage rights are scheduled to expire on December 15, 2011. The purpose of the temporary trackage rights is to allow N&BE to operate bridge train service for temporary, seasonal traffic originating on N&BE for delivery to an off-line destination.

As a condition to this exemption, any employees affected by the acquisition of the temporary trackage rights will be protected by the conditions imposed in Norfolk & Western Railway—Trackage Rights—Burlington Northern, Inc., 354 I.C.C. 605 (1978), as modified in Mendocino Coast Railway, Inc.—Lease & Operate—California Western Railroad, 360 I.C.C. 653 (1980), and any employees affected by the discontinuance of those trackage rights will be protected by the conditions set out in Oregon Short Line Railroad & The Union Pacific Railroad—Abandonment Portion Goshen Branch Between Firth & Ammon, in Bingham & Bonneville Counties, Idaho, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction. Petitions for stay must be filed no later than May 6, 2011 (at least 7 days before the exemption becomes effective).

An original and 10 copies of all pleadings, referring to Docket No. FD 35485, must be filed with the Surface Transportation Board, 395 E Street, SW., Washington, DC 20423-0001. In addition, a copy of each pleading must be served on Richard R. Wilson, 518 N. Center Street, Suite 1, Ebensburg, PA 15931.

Board decisions and notices are available on our Web site at http://www.stb.dot.gov.

Decided: April 26, 2011.
By the Board, Rachel D. Campbell, Director, Office of Proceedings.
Andrea Pope-Matheson,
Clearance Clerk.

[FR Doc. 2011-10414 Filed 4-28-11; 8:45 am]

BILLING CODE 4915-01-P